NUCLEAR REGULATORY COMMISSION

[NRC-2009-0280]

Final Regulatory Guide: Issuance, Availability

AGENCY: Nuclear Regulatory Commission.

ACTION: Notice of Issuance and Availability of Regulatory Guide, RG 5.74.

SUMMARY: The U.S. Nuclear Regulatory Commission (NRC or Commission) is issuing a new guide in the agency's “Regulatory Guide” series. This series was developed to describe and make available to the public information such as methods that are acceptable to the NRC staff for implementing specific parts of the agency's regulations, techniques that the staff uses in evaluating specific problems or postulated accidents, and data that the staff needs in its review of applications for permits and licenses.

FOR FURTHER INFORMATION CONTACT: Bonnie Schnetzler, U.S. Nuclear Regulatory Commission, Washington, DC 20555-0001, telephone: (301) 415-7883 or e-mail to Bonnie.Schnetzler@nrc.gov.

SUPPLEMENTARY INFORMATION:

I. Introduction

The U.S. Nuclear Regulatory Commission (NRC or Commission) is issuing a new guide in the agency's “Regulatory Guide” series. This series was developed to describe and make available to the public information such as methods that are acceptable to the NRC staff for implementing specific parts of the agency's regulations, techniques that the staff uses in evaluating specific problems or postulated accidents, and data that the staff needs in its review of applications for permits and licenses

RG 5.74, “Managing the Safety/Security Interface,” was issued with a temporary identification as Draft Regulatory Guide, DG-5021. This guide describes a method that the staff of the NRC considers acceptable for use in satisfying the requirements of 10 CFR 73.58, “Safety/Security Interface Requirements for Nuclear Power Reactors,” of 10 CFR Part 73, “Physical Protection of Plants and Materials.” To meet these objectives, NRC licensees shall assess and manage changes to safety and security activities so as to prevent or mitigate potential adverse effects that could negatively impact either plant safety or security.

II. Further Information

In July 2007, DG-5021 was published for public comment. The staff's responses to the public comments received are located in the NRC's Agencywide Documents Access and Management System under Accession Number ML091690082. Electronic copies of RG 5.74 are available through the NRC's public Web site under “Regulatory Guides” at http://www.nrc.gov/reading-rm/doc-collections/.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 29th day of June, 2009.
For the Nuclear Regulatory Commission.
R.A. Jervey,
Acting Chief, Regulatory Guide Development Branch, Division of Engineering, Office of Nuclear Regulatory Research.

[FR Doc. E9-15948 Filed 7-6-09; 8:45 am]

BILLING CODE 7590-01-P